DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Methods for Producing Biliverdin

Michael L. Pendrak, David D. Roberts (NCI)

U.S. Provisional Application No. 60/554,369 filed 19 Mar 2004 (DHHS Reference No. E-040-2004/0-US-01)

Licensing Contact: Michael Ambrose; 301/594-6565; ambrosem@mail.nih.gov.

This invention details methods of use and composition of matter for preparing biliverdin. Biliverdin has been shown to have cytoprotective properties similar to bilirubin and can be used in the treatment of cardiovascular diseases, cancer, organ transplantation and other indications where inflammation occurs.

Incubating bilirubin with a bilirubin oxidase from various biological sources produces biliverdin. Like bilirubin, biliverdin has been shown to have these cytoprotective properties but is more soluble, reduced toxicity and as such, reduced side effects. Thus biliverdin is a safer alternative to bilirubin for therapeutic treatment of cardiovascular disease, cancers, inflammation and Alzheimer's in both human and non-human mammals.

The current technology involves methods of use and compositions of matter for the production and collection of biliverdin from microorganisms, including the yeast Candida albicans. Further claims include methods to enhance biliverdin production in microorganisms and use of biliverdin in the production of pharmaceuticals.

Vaccines Using Universally Inactivated Viruses, Parasites, and Tumor Cells

Yossef Raviv et al. (NCI)

U.S. Provisional Application filed 22 Mar 2004 (DHHS Reference No. E-303-2003/0-US-01)

Licensing Contact: Susan Ano; (301) 435-5515; anos@mail.nih.gov.

The current technology describes the universal inactivation of viruses, parasites, and tumor cells by hydrophobic, photoactivatable compounds. These non-toxic compounds, such as 1,5-iodoanpthylazide (INA), will selectively accumulate in the innermost regions of biological membrane bilayers, where the compounds will bind to proteins and lipids upon irradiation with light, thus inactivating deeply embedded proteins while maintaining integrity and activity of the proteins on the surface. This inactivation preserves the structural and conformational integrity and therefore immunogenicity of the agent in question, which overcomes a potential problem associated with some other vaccines such as those containing killed pathogens. Furthermore, the inactivation approach presented in this technology provides for a safe, non-infectious composition for vaccination against the corresponding agent, whereas some vaccines, such as those involving live-attenuated microbial agents, still have a risk of infectivity associated with them.

Quinoline Inhibitors of Retroviral Integrase

Drs. Yves Pommier and Christophe Marchand (both of NCI); Drs. Roberto Di Santo, Marino Artico, and Roberta Costi (all of Pharmacy University of Rome “La Sapienza”)

U.S. Provisional Application filed 10 Mar 2004 (DHHS Reference No. E-187-2003/0-US-01)

Licensing Contact: Sally Hu; (301) 435-5606; hus@mail.nih.gov.

The subject invention describes certain diketo quinolin-4-1 derivatives and their use as integrase inhibitors in the treatment of HIV infection. The results of in vitro integrase inhibition studies show that these derivatives have significant anti-integrase activity (e.g., an IC50 for strand transfer inhibition of not greater than 2 μM). Thus, these derivatives might be potentially important lead compounds for the development of integrase inhibitors. Since HIV integrase is an essential enzyme for effective viral replication, the development of such inhibitors of HIV integrase would thus potentially be useful and effective in the treatment of HIV infection.

Dated: May 21, 2004.
Steven M. Ferguson,
Director, Division of Technology Development and Transfer, Office of Technology Transfer, National Institutes of Health.

[FR Doc. 04-12127 Filed 5-27-04; 8:45 am]

BILLING CODE 4140-01-P